DEPARTMENT OF TRANSPORTATION

Federal Aviation Administration

14 CFR Part 39

[Docket No. FAA-2005-22033; Directorate Identifier 2004-NM-218-AD; Amendment 39-14391; AD 2005-24-11]

RIN 2120-AA64

Airworthiness Directives; Empresa Brasileira de Aeronautica S.A. (EMBRAER) Model EMB-135 Airplanes and Model EMB-145, -145ER, -145MR, -145LR, -145XR, -145MP, and -145EP Airplanes

AGENCY: Federal Aviation Administration (FAA), Department of Transportation (DOT).

ACTION: Final rule; correction.

SUMMARY: The FAA is correcting a typographical error in an existing airworthiness directive (AD) that was published in the Federal Register on December 5, 2005 (70 FR 72363). The error resulted in an incorrect reference to the effective date of Brazilian airworthiness directive 2003-01-03R1. This AD applies to certain EMBRAER Model EMB-135 and Model EMB-145 series airplanes. This AD is superseding an existing AD that currently requires repetitive inspections of the spring cartridges of the elevator gust lock system to determine if the lock washer projection correctly fits the slots in the cartridge flange, and corrective action if necessary, for certain airplanes. This AD retains the requirements of the existing AD and adds a requirement for final terminating action for all affected airplanes.

DATES: Effective January 9, 2006.

ADDRESSES: The AD docket contains the proposed AD, comments, and any final disposition. You may examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW., room PL-401, Washington, DC. This docket number is FAA-2005-22033; the directorate identifier for this docket is 2004-NM-218-AD.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION: On November 18, 2005, the FAA issued AD 2005-24-11, amendment 39-14391 (70 FR 72363, December 5, 2005), for certain EMBRAER Model EMB-135BJ, -135ER, -135KE, -135KL, -135LR, and Model EMB-145, -145ER, -145MR, -145LR, -145XR, -145MP, and -145EP airplanes. That AD requires repetitive inspections of the spring cartridges of the elevator gust lock system to determine if the lock washer projection correctly fits the slots in the cartridge flange, and corrective action if necessary. That AD also adds a requirement for final terminating action for all affected airplanes.

As published, AD 2005-24-11 cited Brazilian airworthiness directive 2003-01-03R1, which was issued showing an incorrect effective date of July 26, 2004. The Departmento de Aviacao Civil (DAC), which is the airworthiness authority for Brazil, has corrected the effective date of Brazilian airworthiness directive 2003-01-03R1 to read August 26, 2004.

No other part of the regulatory information has been changed; therefore, the final rule is not republished in the Federal Register.

The effective date of this AD remains January 9, 2006.

§ 39.13 [Corrected]

In the Federal Register of December 5, 2005, on page 72363, in the right-hand column, paragraph (1) of AD 2005-24-11 is corrected to read as follows:

* * * * *

(1) Brazilian airworthiness directive 2003-01-03R1, dated August 26, 2004, also addresses the subject of this AD.

* * * * *

Issued in Renton, Washington, on December 23, 2005.
Ali Bahrami,
Manager, Transport Airplane Directorate, Aircraft Certification Service.

[FR Doc. 06-16 Filed 1-3-06; 8:45 am]

BILLING CODE 4910-13-P